DEPARTMENT OF COMMERCE

International Trade Administration

[A-583-841]

Antidumping Duty Order: Polyvinyl Alcohol From Taiwan

AGENCY: Import Administration, International Trade Administration, Department of Commerce.

SUMMARY: Based on affirmative final determinations by the Department of Commerce (the Department) and the International Trade Commission (ITC), the Department is issuing an antidumping duty order on polyvinyl alcohol (PVA) from Taiwan.

DATES: Effective Date: March 15, 2011.

FOR FURTHER INFORMATION CONTACT: Thomas Schauer at (202) 482-0410, AD/CVD Operations, Office 5, Import Administration, International Trade Administration, U.S. Department of Commerce, 14th Street and Constitution Avenue, NW., Washington, DC 20230.

SUPPLEMENTARY INFORMATION:

Background

On February 1, 2011, the Department published its affirmative final determination of sales at less than fair value in the antidumping duty investigation of PVA from Taiwan. See Polyvinyl Alcohol From Taiwan: Final Determination of Sales at Less Than Fair Value, 76 FR 5562 (February 1, 2011).

On March 9, 2011, the ITC notified the Department of its final determination, pursuant to section 735(d) of the Tariff Act of 1930, as amended (the Act), that an industry in the United States is materially injured by reason of less-than-fair-value imports of PVA from Taiwan within the meaning of section 735(b)(1)(A)(i) of the Act. See Polyvinyl Alcohol from Taiwan (Investigation No. 731-TA-1088 (Final), USITC Publication 4218, March 2011).

Scope of the Order

The merchandise covered by this antidumping duty order is PVA. This product consists of all PVA hydrolyzed in excess of 80 percent, whether or not mixed or diluted with commercial levels of defoamer or boric acid. PVA in fiber form and PVB-grade low-ash PVA are not included in the scope of this order. PVB-grade low-ash PVA is defined to be PVA that meets the following specifications: Hydrolysis, Mole % of 98.40 +/− 0.40, 4% Solution Viscosity 30.00 +/− 2.50 centipois, and ash—ISE, wt% less than 0.60, 4% solution color 20mm cell, 10.0 maximum APHA units, haze index, 20mm cell, 5.0, maximum. The merchandise subject to this order is currently classifiable under subheading 3905.30.00 of the Harmonized Tariff Schedule of the United States (HTSUS). Although the HTSUS subheading is provided for convenience and customs purposes, the written description of the merchandise subject to this order is dispositive.

Provisional Measures

Section 733(d) of the Act states that suspension-of-liquidation instructions issued pursuant to an affirmative preliminary determination may not remain in effect for more than four months except where exporters representing a significant proportion of exports of the subject merchandise request the Department to extend that four-month period to no more than six months. At the request of the exporter that accounted for a significant proportion of exports of the subject merchandise in the investigations of PVA from Taiwan, we extended the four-month period to no more than six months. See Polyvinyl Alcohol From Taiwan: Preliminary Determination of Sales at Less Than Fair Value and Postponement of Final Determination, 75 FR 55552 (September 13, 2010) (Preliminary Results).

In the investigation, the six-month period beginning on the date of the publication of the preliminary determination (i.e., September 13, 2010) will end on March 12, 2011. Furthermore, section 737 of the Act states that definitive duties are to begin on the date of publication of the ITC's final injury determination. Therefore, in accordance with section 733(d) of the Act, we will instruct U.S. Customs and Border Protection (CBP) to terminate the suspension of liquidation and to liquidate, without regard to antidumping duties, unliquidated entries of PVA from Taiwan entered, or withdrawn from warehouse, for consumption after March 12, 2011, through the day preceding the date of publication of the ITC's final injury determination in the Federal Register. Suspension of liquidation will resume for entries entered, or withdrawn from warehouse, for consumption on or after the date of publication of the ITC's final injury determination in the Federal Register.

Antidumping Duty Order

On March 9, 2011, in accordance with section 735(d) of the Act, the ITC notified the Department of its final determination that an industry in the United States is materially injured within the meaning of section 735(b)(1)(A)(i) of the Act by reason of less-than-fair-value imports of PVA from Taiwan.

In accordance with section 736(a)(1) of the Act, the Department will direct CBP to assess, upon further instruction by the Department, antidumping duties equal to the amount by which the normal value of the merchandise exceeds U.S. price of the merchandise for all relevant entries of PVA from Taiwan. These antidumping duties will be assessed on all unliquidated entries of PVA from Taiwan entered, or withdrawn from warehouse, for consumption on or after September 13, 2010, the date on which the Department published its notice of preliminary determination in the Federal Register, excluding those entries entered, or withdrawn from warehouse, for consumption between March 13, 2011 (the day following the end of the provisional-measures period), and the day preceding the publication date of the ITC's final injury determination in the Federal Register. See Preliminary Results, 75 FR at 55552.

Effective on the date of publication of the ITC's notice of final determination in the Federal Register, CBP will require, pursuant to section 736(a)(3) of the Act and at the same time as importers would normally deposit estimated duties on subject merchandise, a cash deposit equal to the estimated weighted-average antidumping margins listed below. Upon further instruction by the Department and in accordance with section 736(a)(1) of the Act, the Department will instruct CBP to assess antidumping duties equal to the amount by which the normal value of the merchandise exceeds U.S. price of the merchandise for all relevant entries of PVA from Taiwan. These antidumping duties will be assessed on all unliquidated entries of PVA entered from Taiwan, or withdrawn from warehouse, for consumption on or after the date of publication of the ITC's notice of final determination in the Federal Register.

Producer or exporter | Weighted- average margin
Chang Chun Petrochemical Co., Ltd | 3.08
All Others | 3.08

This notice constitutes the antidumping duty order with respect to PVA from Taiwan pursuant to section 736(a) of the Act. Interested parties may contact the Central Records Unit of the main Department of Commerce building, Room 7046, for copies of an updated list of antidumping duty orders currently in effect.

This order is published in accordance with section 736(a) of the Act and 19 CFR 351.211(b).

Dated: March 9, 2011.
Ronald K. Lorentzen,
Deputy Assistant Secretary for Import Administration.

[FR Doc. 2011-6004 Filed 3-14-11; 8:45 am]

BILLING CODE 3510-DS-P